DEPARTMENT OF TRANSPORTATION

Federal Aviation Administration

14 CFR Part 39

[Docket No. FAA-2008-0908; Directorate Identifier 2007-NM-190-AD]

RIN 2120-AA64

Airworthiness Directives; Airbus Model A310 Series Airplanes

Correction

In proposed rule document E8-19715 beginning on page 50250 in the issue of Tuesday, August 26, 2008, make the following correction:

§39.13 [Corrected]

On page 50253, in §39.13, Table 1 should read as set forth below:

Table 1—Revised Repetitive Intervals for Certain Detailed Inspections
For model— | Repeat the inspection at the later of the following times— |  | And thereafter at intervals not to exceed—
(1) A310-200 series airplanes | Within 950 flight cycles or 1,900 flight hours since the last inspection required by paragraph (f)(1)(i) or (i) of this AD, whichever occurs first | Within 50 flight cycles or 250 flight hours after the effective date of this AD, whichever occurs first | 950 flight cycles or 1,900 flight hours, whichever occurs first.
(2) A310-300 series airplanes (short range) | Within 900 flight cycles or 2,550 flight hours since the last inspection required by paragraph (f)(1)(ii) or (i) of this AD, whichever occurs first | Within 50 flight cycles or 250 flight hours after the effective date of this AD, whichever occurs first | 900 flight cycles or 2,550 flight hours, whichever occurs first.
(3) A310-300 series airplanes (long range) | Within 800 flight cycles or 4,000 flight hours since the last inspection required by paragraph (f)(1)(ii) or (i) of this AD, whichever occurs first | Within 50 flight cycles or 250 flight hours after the effective date of this AD, whichever occurs first | 800 flight cycles or 4,000 flight hours, whichever occurs first.

[FR Doc. Z8-19715 Filed 9-5-08; 8:45 am]

BILLING CODE 1505-01-D